DEPARTMENT OF ENERGY

Federal Energy Regulatory Commission

[IC06-544-001, FERC-544]

Commission Information Collection Activities, Proposed Collection; Comment Request; Extension

June 27, 2006.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received no comments in response to an earlier Federal Register notice of March 17, 2006 (71 FR 13819-13820) and has made this notation in its submission to OMB.

DATES: Comments on the collection of information are due by July 31, 2006.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-34, Attention: Michael Miller, 888 First Street, NE., Washington, DC 20426. Comments may be filed either in paper format or electronically. Those persons filing electronically do not need to make a paper filing. For paper filings, and original and 14 copies of such comments should be submitted to the Secretary of the Commission, Federal Energy Regulatory Commission, 888 First Street, NE., Washington, DC 20426 and should refer to Docket No. IC06-544-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-544 “Gas Pipeline Rates: Rate Change (Formal).”

2. Sponsor: Federal Energy Regulatory Commission.

3. Control No. 1902-0153.

The Commission is now requesting that OMB approve and extend the expiration date for an additional three years with no changes to the existing collection. The information filed with the Commission is mandatory.

4. Necessity of the Collection of Information: Submission of the information is necessary for the Commission to carry out its responsibilities in implementing the statutory provisions of sections 4, 5, and 16 of the Natural Gas Act (U.S.C. 717c-717o, Pub. L. 75-688). The Commission implements FERC-544 filing requirements in the Code of Federal Regulations (CFR) under 18 CFR part 154.

General rate change applications filed under section 4(e) of the Natural Gas Act reflect changes in rates based generally upon changes in the pipeline company's overall costs of providing service. Staff analyses are performed to determine whether the proposed rates and charges are consistent with the Commission's statutory responsibilities, policies, conditions. A preliminary review and report to the Commission of all changes filed under the NGA must be made by staff. Based upon the report, the Commission determines whether the filing should be accepted or suspended and set for hearing and investigation. 18 CFR 154.301-154.313 govern the filing requirements for rate changes and define the statements and schedules pipeline companies must file in support of their proposed rates and changes. 18 CFR 154.205 governs the filing requirements for changes relating to suspended tariffs, executed agreements or parts thereof. 18 CFR 154.206 permits the proposed change in rate, charge, classification or service to go into effect upon motion of the jurisdictional gas pipeline at the expiration of the suspension period or upon receipt of the motion, whichever is later.

Formal rate change filings (FERC-544) are suspended and set for hearing. When the NGA Section 4(e) filing is suspended, the rate becomes the subject of a hearing process and may go into effect subject to refund with interest. All suspended filings that go through the hearing process are considered formal cases and an investigation is instituted to determine the reasonableness of the rate filing. If the rates and charges are deemed unjust, unreasonable or unduly discriminatory, the appropriate rate, charge or service condition is ascertained. The formal proceeding is terminated by the issuance of a final Commission order.

5. Respondent Description: The respondent universe currently comprises 11 companies (on average) subject to the Commission's jurisdiction.

6. Estimated Burden: 50,413 total hours, 11 respondents (average), 1 response per respondent, and 4,583 hours per response (average).

7. Estimated Cost Burden to respondents: 50,413 hours/2080 hours per years × $117,321 per year = $2,843,511. The cost per respondent is equal to $258,501.

Statutory Authority: Statutory provisions of sections 4, 5, and 16 of the Natural Gas Act (U.S.C. 717c-717o, Pub. L. 75-688). The Commission implements FERC-544 filing requirements in the Code of Federal Regulations (CFR) under 18 CFR part 154.

Magalie R. Salas,
Secretary.

[FR Doc. E6-10987 Filed 7-12-06; 8:45 am]

BILLING CODE 6717-01-P